ENVIRONMENTAL PROTECTION AGENCY

40 CFR Part 52

[EPA-R09-OAR-2009-0435; FRL-8976-4]

Approval and Promulgation of Implementation Plans; Corrections to the Arizona and Nevada State Implementation Plans

AGENCY: Environmental Protection Agency (EPA).

ACTION: Proposed rule.

SUMMARY: EPA is proposing to delete certain statutes and rules that were erroneously approved by EPA under the Clean Air Act as part of the Arizona and Nevada state implementation plans. The statutes that are the subject of this proposal are from the Arizona state implementation plan. The rules that are the subject of this proposal were adopted by Pima County Health Department in Arizona and the State Environmental Commission, Clark County District Board of Health, and Washoe County District Board of Health in Nevada. The statutes and rules that EPA is proposing to delete relate to general declarations of policy, advisory committees, variances, and incidental fees and nuisance odors. EPA is proposing to delete these statutes and rules under section 110(k)(6) of the Clean Air Act. EPA is also proposing to correct certain clerical and typographical errors in the codification of the Pima County portion of the Arizona plan.

DATES: Any comments on this proposal must arrive by December 3, 2009.

ADDRESSES: Submit comments, identified by docket number EPA-R09-OAR-2009-0435, by one of the following methods:

1. Federal eRulemaking Portal: http://www.regulations.gov. Follow the online instructions.

2. E-mail: allen.cynthia@epa.gov.

3. Mail or deliver: Cynthia Allen (AIR-4), U.S. Environmental Protection Agency Region IX, 75 Hawthorne Street, San Francisco, CA 94105-3901.

Instructions: All comments will be included in the public docket without change and may be made available online at: http://www.regulations.gov, including any personal information provided, unless the comment includes Confidential Business Information (CBI) or other information whose disclosure is restricted by statute. Information that you consider CBI or otherwise protected should be clearly identified as such and should not be submitted through http://www.regulations.gov or e-mail. The http://www.regulations.gov portal is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Cynthia Allen, Rules Office (AIR-4), U.S. Environmental Protection Agency, Region IX, (415) 947-4120, allen.cynthia@epa.gov.

SUPPLEMENTARY INFORMATION: Throughout this document, “we,” “us” and “our” refer to EPA. This proposal addresses a number of statutes and rules that EPA has determined were previously approved in error into the Arizona and Nevada state implementation plans (SIPs). EPA is proposing to delete these statutes and rules from the respective SIPs under section 110(k)(6) of the Clean Air Act, which provides EPA authority to remove these statutes and rules without additional State submission.

In the Rules and Regulations section of this Federal Register, we are deleting these statutes and rules, and making the necessary corrections to the codification of the Pima County portion of the Arizona state implementation plan, in a direct final action without prior proposal because we believe the deletion of them is not controversial. Please see the direct final action for a list of the specific statutes and rules that are the subject of this action. If we receive adverse comments, however, we will publish a timely withdrawal of the direct final rule and address the comments in a subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

Dated: October 19, 2009.
Nancy Lindsay,
Acting Regional Administrator, Region IX.

[FR Doc. E9-26332 Filed 11-2-09; 8:45 am]

BILLING CODE 6560-50-P